DEPARTMENT OF THE INTERIOR

National Park Service

Notice of Meeting of Concessions Management Advisory Board

SUMMARY: In accordance with the Federal Advisory Committee Act (Public Law 92-463, 86 Stat. 770, 5 U.S.C. App 1, Section 10), notice is hereby given that the Concessions Management Advisory Board (the Board) will hold its 18th meeting March 12-13, 2008, at Embassy Suites Hotel, Washington, DC. The meeting will convene Wednesday, March 12 at 10 a.m. and will conclude at 4 p.m. The meeting will reconvene Thursday, March 13 at 9 a.m. and will conclude before 4 p.m.

ADDRESSES: The meeting will be held in DC Convention Center Embassy Suites Hotel, 900 10th Street, NW., Washington, DC 20001. Hotel phone number: (202) 719-1438.

SUPPLEMENTARY INFORMATION: The Board was established by Title IV, Section 409 of the National Parks Omnibus Management Act of 1998, November 13, 1998 (Pub. L. 105-391). The purpose of the Board is to advise the Secretary and the National Park Service on matters relating to management of concessions in the National Park System. The Board will meet at 10 a.m. Wednesday, March 12, and 9 a.m. on Thursday, March 13, for the regular business meeting and continued discussion on the following subjects:

• Presentations by National Park Hospitality Association

• Leasehold Surrender Interest Tracking Tool Update

• Concession Contracting Status Update and Regional Reports

• Revised Concession Annual Operational Review Forms

• Concession Facility Asset Management Update

• DO 35B—Utility Rates for Non-NPS Users

• Centennial Challenge Initiative Status

• Concession Program Training and Development Update

• Buy American Initiative

• Other business

The meeting will be open to the public, however, facilities and space for accommodating members of the public are limited, and persons will be accommodated on a first-come-first-served basis.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations as necessary to allow the Board to complete its agenda within the allotted time. Such requests should be made to the Director, National Park Service, Attention: Manager, Concession Program, at least 7 days prior to the meeting. Draft minutes of the meeting will be available for public inspection approximately 6 weeks after the meeting, at the Concession Program office located at 1201 Eye Street, NW., 11th Floor, Washington, DC.

FOR FURTHER INFORMATION CONTACT: National Park Service, Concession Program, 1201 Eye Street, NW., Washington, DC 20240, Telephone: 202-13-7151.

Dated: February 13, 2008.
Daniel N. Wenk,
Deputy Director, National Park Service.

[FR Doc. E8-3132 Filed 2-19-08; 8:45 am]

BILLING CODE 4312-53-P